DEPARTMENT OF DEFENSE

Department of the Army

U.S. Army Science Board; Notice of Federal Advisory Committee Meeting

AGENCY: Department of the Army, DoD.

ACTION: Notice of Federal Advisory Committee Meeting.

SUMMARY: The Department of the Army is publishing this notice to announce the following Federal Advisory Committee meeting of the U.S. Army Science Board (ASB). This meeting is open to the public.

DATES: Tuesday, January 7, 2020 to Thursday, January 9, 2020: Time: 8:00 a.m. to 5:00 p.m.

ADDRESSES: University of Texas System, 210 West 7th Street, Austin, Texas 78701.

FOR FURTHER INFORMATION CONTACT: Ms. Heather J. Gerard, (703) 545-8652 (Voice), heatherj.gerard.civ@mail.mil (Email), Army Science Board Designated Federal Officer, or Ms. Lisa Hoskins at (703) 554-5687 or email: lisa.k.hoskins.civ@mail.mil. Alternate Designated Federal Officer. Mailing address is Army Science Board, 2530 Crystal Drive, Suite 7098, Arlington, VA 22202. Website: https://asb.army.mil/.

SUPPLEMENTARY INFORMATION: This meeting is being held under the provisions of the Federal Advisory Committee Act (FACA) of 1972 (5 U.S.C. Appendix, as amended), the Government in the Sunshine Act of 1976 (5 U.S.C. 552b, as amended), and 41 CFR 102-3.140 and 102-3.150.

Purpose of the Meeting: The purpose of the meeting is for ASB members to review, deliberate, and vote on the findings and recommendations presented for a Fiscal Year 2019 (FYI9) ASB study.

Agenda: The board will present findings and recommendations for deliberation and vote on the following FYI 9 study: “An Independent Assessment of the 'U.S. Army Corps of Engineers' (USACE) Effectiveness in Delivering the Nation's Civil Works Program”. This study is unclassified and will be presented on January 7, 2020 from 10:00 a.m.-11:30 a.m.

Public Accessibility to the Meeting: Pursuant to 5 U.S. Code 552b, as amended, and 41 CFR 102-3.140 through 102-3.165, and subject to the availability of space, this meeting is open to the public. Seating is on a first to arrive basis. Because the meeting will be held in a Federal Government facility, security screening is required. A photo ID is required to enter the facility. To enter the facility, visitors must follow the procedures for 210 West 7th Street, Austin, Texas 78701. For additional information about public access procedures, contact the Alternate Designated Federal Officer, at the email address or telephone number listed in the FOR FURTHER INFORMATION CONTACT section.

Written Statements: Pursuant to 41 CFR 102-3.105(j) and 102-3.140, and sec. 10(a)(3) of the Federal Advisory Committee Act of 1972, the public or interested organizations may submit written statements to the ASB about its mission and functions. Written statements may be submitted at any time or in response to the stated agenda of a planned meeting of the ASB. All written statements must be submitted to the Designated Federal Officer (DFO) at the address listed above, and this individual will ensure that the written statements are provided to the membership for their consideration. Written statements not received at least 10 calendar days prior to the meeting may not be considered by the ASB prior to its scheduled meeting. After reviewing written comments, the DFO may choose to invite the submitter of the comments to orally present their issue during a future open meeting.

Dated: November 22, 2019.
James E. McPherson,
Senior Official Performing the Duties of the Under Secretary of the Army.

[FR Doc. 2019-26890 Filed 12-12-19; 8:45 am]

BILLING CODE 5001-03-P